DEPARTMENT OF HOMELAND SECURITY

Coast Guard

[USCG-2010-0925]

National Offshore Safety Advisory Committee

AGENCY: Coast Guard, DHS.

ACTION: Notice of meeting.

SUMMARY: The National Offshore Safety Advisory Committee (NOSAC) will meet to discuss items related to safety of operations and other matters affecting the oil and gas offshore industry. The purpose of this meeting is to review and discuss reports and recommendations received from the various NOSAC subcommittees. The Committee will then use this information to formulate recommendations to the agency. This meeting will be open to the public.

DATES: The meeting will take place on Tuesday, November 9, 2010, from 9 a.m. to 4:30 p.m. CST. This meeting may close early if all business is finished. Written material and requests to make oral presentations should reach the Coast Guard on or before October 25, 2010. Requests to have a copy of your material distributed to each member of the committee should reach the Coast Guard on or before October 25, 2010.

ADDRESSES: The Committee will meet at the Crowne Plaza Houston Northpoint, Grand Ballroom 1&2, 425 Sam Houston Parkway East, Houston, TX 77060, Tel. (281) 445-9000, on November 9, 2010. Public participation is welcome and members of the public wishing to participate may contact Commander P.W. Clark at 202-372-1410. Written comments should be sent to Commander P.W. Clark, Designated Federal Officer of NOSAC, Commandant (CG-5222), U.S. Coast Guard, 2100 Second Street, SW, Stop 7126, Washington, DC 20593-0001; or by fax to 202-372 1926, at least 15 days prior to the meeting. This notice is available in our online docket, USCG-2010-0925, at http://www.regulations.gov.

FOR FURTHER INFORMATION CONTACT: Commander P.W. Clark, Designated Federal Officer (DFO) of NOSAC, or Mr. Kevin Pekarek, Assistant Designated Federal Officer (ADFO), telephone 202-372-1386, fax 202-372-1926.

SUPPLEMENTARY INFORMATION: Notice of this meeting is given under the Federal Advisory Committee Act (FACA), 5 U.S.C. App. (Pub. L. 92-463). NOSAC provides advice and makes recommendations to the Coast Guard on safety and other concerns affecting the offshore oil and gas industry and assists the Coast Guard in formulating U.S. positions for discussion and presentation at the International Maritime Organization (IMO).

Agenda of Meeting

The agenda for the November 9, 2010, Committee meeting is as follows:

(1) Roll call of committee members.

(2) Approval of minutes from the September 29, 2010, meeting.

(3) Presentation and discussion of reports, recommendations from the subcommittees on:

(a) Medical Evacuation of Injured Divers.

(b) Marine Portable Quarters.

(4) An update on the NOSAC recommendations received by the Coast Guard and their status.

(5) The Bureau of Ocean Energy, Management, Regulation and Enforcement (BOEMRE) organizational and regulatory update.

(6) A presentation on the DEEPWATER HORIZON ongoing Investigation.

(7) An update on current Coast Guard regulatory initiatives.

(8) An update on Standards, Training, Certification & Watch keeping (STCW) involving U.S. vessels operating in foreign waters and the use of non-U.S. citizens for their manning purposes.

(9) International Maritime Organization (IMO) Updates concerning what regulations have been released or will be released soon that may be of interest to NOSAC.

(10) Period for public comment.

Procedural

The DFO will use the following procedures to facilitate the meeting.

(1) The meeting is open to the public.

(2) Persons desiring to present statements at the meeting are encouraged to notify the DFO listed in the FOR FURTHER INFORMATION CONTACT section above before October 25, 2010.

(3) The DFO will make every effort to accommodate all persons who wish to participate, but admission will be subject to availability of space in the meeting room. The meeting may adjourn early if scheduled speakers complete their statements or questions in less time than is scheduled for the meeting.

(4) An individual, whether speaking in a personal or a representative capacity on behalf of an organization, will be limited to a three-minute statement and scheduled on a first-come, first-served basis. If a large number of persons register to present comments, this amount of time may be shortened to provide all registered persons an opportunity to present their comments.

(4) Any speaker prevented by time constraints from speaking will be encouraged to submit written remarks, which will be made part of the record.

(5) For information on facilities or services for individuals with disabilities or to request assistance at the meeting, please contact the person listed in the FOR FURTHER INFORMATION CONTACT section above before October 25, 2010.

(6) The meeting will be recorded by a court reporter. A transcript of the meeting and any material presented at the meeting will be made available through the fido.gov Web site discussed in the MINUTES section below.

(7) The meeting is designed to invite public views and gather information on relevant topics being discussed. However, the DFO, ADFO, and Committee members may ask questions to clarify a statement.

Minutes

Minutes from the meeting will be available for the public review and copying 30 days following the meeting and can be accessed from the fido.gov Web site. Use “code 68” to identify NOSAC when accessing this material.

Dated: October 14, 2010.
F.J. Sturm,
Acting Director, Commercial Regulations and Standards.

[FR Doc. 2010-26545 Filed 10-20-10; 8:45 am]

BILLING CODE 9110-04-P